DEPARTMENT OF HOUSING AND URBAN DEVELOPMENT

[Docket No. FR-5282-N-06]

Notice of Submission of Proposed Information Collection to OMB; Comment Request; HUD NEPA ARRA Section 1609(c) Reporting

AGENCY: Office of the Chief Information Officer, HUD.

ACTION: Notice of proposed information collection.

SUMMARY: The proposed information collection requirement described below has been submitted to the Office of Management and Budget (OMB) for review and extension of the current approval, as required by the Paperwork Reduction Act. The Department is soliciting public comments on the subject proposal.

DATES: Comments Due Date: November 9, 2009.

ADDRESSES: Interested persons are invited to submit comments regarding this proposal. Comments should refer to the proposal by name and/or OMB approval number and should be sent to: Lillian L. Deitzer, Departmental Reports Management Officer, QDAM, Department of Housing and Urban Development, 451 Seventh Street, SW., Room 4178, Washington, DC 20410-5000; telephone (202) 402-8048 (this is not a toll-free number) or e-mail Ms. Deitzer at Lillian.L.Deitzer@hud.gov for a copy of the proposed form, or other available information.

FOR FURTHER INFORMATION CONTACT: Charles Bien, Director, Environmental Review Division, Office of Environment and Energy, Department of Housing and Urban Development, 451 Seventh Street, SW., Washington, DC 20410; e-mail: Charles.Bien@hud.gov; telephone (202) 402-4462. This is not a toll-free number.

SUPPLEMENTARY INFORMATION: This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice lists the following information:

Title of Proposal: HUD NEPA ARRA Section 1609(c) Reporting.

Description of Information Collection: The temporary electronic form will be provided by HUD to be used by grantees [i.e., Respondents] for the purpose of complying with the ARRA Section 1609(c) statutory requirement. Grantees who receive American Recovery and Reinvestment Act (ARRA) funding for projects must report on the status and progress of their projects and activities with respect to compliance with the National Environmental Policy Act (NEPA) requirements and documentation. HUD will consolidate and transmit the information received from grantees to the Council on Environmental Quality and OMB for the Administration's reports to the House and Senate committees designated in the legislation.

OMB Control Number: 2506-0187.

Agency Form Numbers: None.

Members of the Affected Public: Not-for-profit institutions, State, Local or Tribal Government.

Estimation of the total number of hours needed to prepare the information collection including number of responses, frequency of responses, and hours of responses: Estimated number of respondents is 6,000. Frequency of response is quarterly. Annual number of responses is 24,000 (6,000 x 4). Estimate 30 minutes for response. Annualized burden hours is 12,000 (24,000 x 0.5 hours).

Authority: The Paperwork Reduction Act of 1995, 44 U.S.C. Chapter 35, as amended.

Dated: September 2, 2009.
Mercedes M. Márquez,
Assistant Secretary for Community Planning and Development.

[FR Doc. E9-21736 Filed 9-8-09; 8:45 am]

BILLING CODE 4210-67-P